DEPARTMENT OF HEALTH AND HUMAN SERVICES

Agency for Toxic Substances and Disease Registry

[Docket ATSDR-2012-0002 ATSDR-274]

Availability of Interaction Profile for Chlorinated Dibenzo-p-Dioxins, Polybrominated Diphenol Ethers, and Phthalates

AGENCY: Agency for Toxic Substances and Disease Registry (ATSDR), Department of Health and Human Services (DHHS).

ACTION: Notice of availability for public comments.

SUMMARY: The Agency for Toxic Substances and Disease Registry (ATSDR) within the Department of Health and Human Services announces the availability of the interaction profile for Chlorinated Dibenzo-p-Dioxins, Polybrominated Diphenol Ethers, and Phthalates. This interaction profile evaluates a mixture of chemicals often found in human blood, adipose tissue, and breast milk. The purpose of this interaction profile is to investigate the possible joint actions of these chemicals on endocrine, developmental, and neurobehavioral endpoints in humans. This interaction profile has undergone external peer-review and review by ATSDR's Interagency Workgroup on Mixtures.

DATES: The interaction profile was made available to the public on September 2, 2013. The comment period will end on December 2, 2013.

ADDRESSES: You may submit comments, identified by Docket No. ATSDR-2012-0002, by any of the following methods:

• Internet: Access the Federal eRulemaking portal at http://www.regulations.gov. Follow the instructions for submitting comments.

• Mail: Division of Toxicology and Human Health Sciences, Agency for Toxic Substances and Disease Registry, 1600 Clifton Road, NE., Mailstop F-57, Atlanta, Georgia 30333.

Instructions: All submissions received must include the agency name and docket number for this notice. All relevant comments will be posted without change.

FOR FURTHER INFORMATION CONTACT: Dr. Hana Pohl, Division of Toxicology and Human Health Sciences, Agency for Toxic Substances and Disease Registry, Mailstop F-57, 1600 Clifton Road, NE., Atlanta, Georgia 30333, telephone (888) 422-8737.

SUPPLEMENTARY INFORMATION: ATSDR develops interaction profiles for hazardous substances found at the National Priority List (NPL) sites under Section 104(i)(3) and (5) of the Comprehensive Environmental Response, Compensation, and Liability Act of 1980 (CERCLA). This law requires that ATSDR assess whether or not adequate information on health effects is available for priority hazardous substances. Where such information is not available or under development, ATSDR shall, in cooperation with the National Toxicology Program, initiate a research program to determine these health effects. The Act further directs that, where feasible, ATSDR shall develop methods to determine the health effects of these priority hazardous substances in combination with other substances commonly found with them.

To carry out these legislative mandates, ATSDR has developed a chemical mixtures program and guidance manual that outlines the latest methods for mixtures health assessment. In addition, a series of documents called “interaction profiles” is developed for certain priority mixtures that are of special concern to ATSDR. To recommend approaches for the exposure-based assessment of the potential hazard to public health, an interaction profile evaluates data on the toxicology of the whole priority mixture, if available, and on the joint toxic action of the chemicals in the mixture.

The entire interaction profile development process is as follows:

• ATSDR selects substances/chemicals for development of interaction profiles through inter/intra agency communications collaboration and literature reviews.

• After the selection, a letter is sent to individuals and agencies on ATSDR's mailing list providing notice of ATSDR's intent to create an interaction profile.

• A notice is posted in the Federal Register to inform the public of ATSDR's intent to develop a particular interaction profile.

• The draft interaction profile undergoes both internal and external peer review.

• A Federal Register notice announces the release of the official draft for public comment.

• ATSDR posts a link to the draft interaction profile on its Web site, giving the public an opportunity to provide comments.

• ATSDR reviews all public comments and revises the draft, as appropriate, before issuing the final version.

Dated: October 18, 2013.
Sascha Chaney,
Acting Director, Office of Policy, Planning and Evaluation, National Center for Environmental Health/Agency for Toxic Substances and Disease Registry.

[FR Doc. 2013-25145 Filed 10-24-13; 8:45 am]

BILLING CODE 4163-70-P